DEPARTMENT OF JUSTICE

[OMB Number 1121-0NEW]

Agency Information Collection Activities; Proposed eCollection eComments Requested; New Collection; 2023 Law Enforcement Administrative and Management Statistics (LEMAS) Supplement Survey—Post-Academy Training and Officer Wellness (PATOW)

AGENCY: Bureau of Justice Statistics, Department of Justice.

ACTION: 60-day Notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until July 17, 2023.

FOR FURTHER INFORMATION CONTACT: If you have additional comments especially on the estimated public burden or associated response time, suggestions, or need a copy of the proposed information collection instrument with instructions or additional information, please contact Jennifer K. Gellie, Acting Chief, Counterintelligence and Export Control Section, National Security Division, 175 N Street NE, Constitution Square Building Three, Suite 1.100, Washington, DC 20002, email: fara.public@usdoj.gov, telephone: (202) 233-0776.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The LEMAS core survey, conducted every 3 to 4 years since 1987, is based on a nationally representative sample of approximately 3,500 general-purpose LEAs and provides national estimates of law enforcement salaries, expenditures, operations, equipment, information systems and policies and procedures. In addition to these regular surveys, BJS also fields LEMAS supplement surveys to capture detailed information on specific topics pertaining to specific issues in law enforcement. BJS implemented this model of regular LEMAS core surveys and thematic supplement surveys following recommendations from the National Research Council. The first LEMAS supplement survey was fielded in 2017 (OMB Control Number 1121-0354, expired 2/28/2019), with a focus on body-worn camera use among law enforcement agencies. The 2023 LEMAS supplement focuses on two topics, post-academy law enforcement training and agency responses to suicide. Post-academy training is defined as law enforcement training provided to full-time sworn personnel with general arrest powers at any point in their law enforcement career following any recruit or field training. Applicable topics include the number and types of training instructors used; training budgets; the resources that are accessible to officers through the agency's training program; the number of instruction hours provided for each training topic; and the types of special training programs offered to active full-time sworn personnel. The 2023 LEMAS supplement will also address law enforcement agency responses to suicide. The Federal Bureau of Investigation (FBI) launched the Law Enforcement Suicide Data Collection (LESDC) in January 2022 (OMB Control Number 1110-0082). The 2023 LEMAS supplement survey is intended to be a supporting effort to LESDC by collecting agency-level information on formal wellness programs currently available to full-time sworn personnel and related policies and training.

Overview of This Information Collection:

Type of Information Collection: New collection.

The Title of the Form/Collection: 2023 Law Enforcement Administrative and Management Statistics (LEMAS) Supplement Survey—Post-Academy Training and Officer Wellness (PATOW).

The agency form number, if any, and the applicable component of the Department sponsoring the collection: No agency form number at this time. The applicable component within the Department of Justice is the Bureau of Justice Statistics (BJS), in the Office of Justice Programs.

Affected public who will be asked or required to respond, as well as the obligation to respond: Affected public is State, Local and Tribal Governments and the obligation to respond is voluntary.

An estimate of the total number of respondents and the amount of time estimated for an average respondent to respond: An agency-level survey will be sent to approximately 3,500 LEA respondents. The expected burden placed on these respondents is about 1.75 hours per respondent.

An estimate of the total annual burden (in hours) associated with the collection: There are an estimated 6,125 total burden hours associated with this information collection.

An estimate of the total annual cost burden associated with the collection, if applicable: The estimated annual cost burden for this collection is $0.

Total Burden Hours
Activity | Number of respondents | Frequency | Total annual responses | Time per response | Total annual burden (hours)
LEMAS Supplement Survey | 3,500 | 1 | 3,500 | 1.75 | 102
Unduplicated Totals | 3.500 |  | 3,500 |  | 102

If additional information is required contact: John R. Carlson, Department Clearance Officer, United States Department of Justice, Justice Management Division, Policy and Planning Staff, Two Constitution Square, 145 N Street NE, 4W-218, Washington, DC.

Dated: May 11, 2023.
John Carlson,
Department Clearance Officer for PRA, U.S. Department of Justice.

[FR Doc. 2023-10419 Filed 5-15-23; 8:45 am]

BILLING CODE 4410-18-P